DEPARTMENT OF COMMERCE

National Oceanic and Atmospheric Administration

RIN 0648-XA56

Marine Fisheries Advisory Committee; Public Meetings

AGENCY: National Marine Fisheries Service (NMFS), National Oceanic and Atmospheric Administration (NOAA), Commerce.

ACTION: Notice of open public meetings.

SUMMARY: Notice is hereby given of meetings of the Marine Fisheries Advisory Committee (MAFAC). This will be the first of two possible meetings to be held in fiscal year 2007 to review and advise NOAA on management policies for living marine resources. Agenda topics are provided under the SUPPLEMENTARY INFORMATION section of this notice. All full Committee sessions will be open to the public.

DATES: The meetings will be held June 4, 2007, from 9 a.m. to 5 p.m., June 5, 2007, from 9 a.m. to 12 p.m., and June 6, 2007, from 1 p.m. to 5 p.m.

ADDRESSES: The meetings will be held in the Springwood meeting room at the Washington Court Hotel, 525 New Jersey Avenue, Washington, D.C. 20001; (202) 628-2100.

FOR FURTHER INFORMATION CONTACT: Laurel Bryant, MAFAC Executive Director; telephone: (301) 713-2379 x171.

SUPPLEMENTARY INFORMATION: As required by section 10(a)(2) of the Federal Advisory Committee Act, 5 U.S.C. App. 2, notice is hereby given of meetings of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, state, consumer, academic, tribal, governmental and other national interests. The complete charter and summaries of former meetings are located online at www.nmfs.noaa.gov/ocs/mafac/index.htm.

Matters to be Considered

June 4, 2007

The meeting will begin with opening remarks and introductions from Dr. William T. Hogarth, Assistant Administrator for Fisheries. MAFAC subcommittee chairs will provide an overview of what their respective subcommittees will address during the meeting. A brief review and discussion of advisory committee administrative policies and procedures will also be provided, with the remainder of the day dedicated to reviews and discussions of the agency's FishWatch web page project and updates and details of the implementation of the Magnuson-Stevens Fishery Conservation and Management Reauthorization Act of 2006.

June 5, 2007

The full Committee will reconvene from 9 a.m. to 12 p.m. to continue discussions for a Vision 2020 project, outlining a roadmap of issues to be addressed in the next 20 years. At the conclusion of the discussion, and as determined by the members, the full Committee will break into Subcommittees and working groups to allow time for in depth discussions and work on the issues pending before the Committee, including Magnuson-Stevens reauthorization, aquaculture legislation, recreational fishing data improvement plans and Vision 2020. The work of the Subcommittees will be presented and discussed in-depth at the full Committee level the following afternoon.

June 6, 2007

The Subcommittees will meet from 9 a.m. to 1 p.m. The full Committee will reconvene from 1 p.m. to 5 p.m. to receive, discuss, and take any final actions and votes.

Special Accommodations

These meetings are physically accessible to people with disabilities. Requests for sign language interpretation or other auxiliary aids should be directed to Laurel Bryant, MAFAC Executive Director; telephone: (301) 713-2379 x171 by 5pm, May 30, 2007.

Dated: May 21, 2007.
John Oliver
Deputy Assistant Administrator for Operations, National Marine Fisheries Service.

[FR Doc. E7-10149 Filed 5-24-07; 8:45 am]

BILLING CODE 3510-22-S